NATIONAL COMMISSION ON MILITARY, NATIONAL, AND PUBLIC SERVICE

[NCMNPS Docket No. 05-2018-01]

Request for Information on Improving the Military Selective Service Process and Increasing Participation in Military, National, and Public Service

AGENCY: National Commission on Military, National, and Public Service.

ACTION: Request for comments.

SUMMARY: The National Commission on Military, National, and Public Service (the “Commission”) was created by Congress in the National Defense Authorization Act of Fiscal Year 2017 to “conduct a review of the military selective service process (commonly referred to as `the draft') ” and to consider methods to increase participation in military, national, and public service in order to address national security and other public service needs of the Nation. In connection with this effort, Congress has directed the Commission to seek written comments from the general public and interested parties on matters of the Commission's review. The Commission seeks to learn more about the general public's views on these topics, including what has encouraged or discouraged them to perform voluntary or paid services for their communities at all levels.

DATES: Comments are due by April 19, 2018.

ADDRESSES: You may submit comments, identified by Docket No. 05-2018-01, by any of the following methods:

• Email: national.commission.on.service.info@mail.mil. Please include the docket number in the subject line of the message.

• Website: http://www.inspire2serve.gov/content/share-your-thoughts. Follow the instructions on the page to submit a comment and include the docket number in the comment.

• Mail: National Commission on Military, National, and Public Service, Attn: RFI COMMENT—Docket 05-2018-01, 2530 Crystal Drive, Suite 1000, Room 1029 Arlington, VA 22202.

All submissions received must include the docket number. If the Commission cannot read your comment due to technical difficulties and cannot contact you for clarification, the Commission may not be able to consider your comment. Late comments will be considered.

FOR FURTHER INFORMATION CONTACT: For general inquiries, submission process questions, or any additional information about this request for comments, please contact Rachel Rikleen, at (703) 571-3760 or by email at national.commission.on.service.info@mail.mil.

SUPPLEMENTARY INFORMATION:

I. Background

The National Defense Authorization Act for Fiscal Year 2017, Public Law 114-328, 130 Stat. 2000 (2016), created the National Commission on Military, National, and Public Service (the “Commission”) to “conduct a review of the military selective service process (commonly referred to as `the draft')” and to “consider methods to increase participation in military, national, and public service in order to address national security and other public service needs of the Nation.” Public Law 114-328, Subtitle F, Section 551.

To this end, Congress has specifically directed the Commission to consider: “(1) the need for a military selective service process, including the continuing need for a mechanism to draft large numbers of replacement combat troops; (2) means by which to foster a greater attitude and ethos of service among United States youth, including an increased propensity for military service; (3) the feasibility and advisability of modifying the military selective service process in order to obtain for military, national, and public service individuals with skills (such as medical, dental, and nursing skills, language skills, cyber skills, and science, technology, engineering, and mathematics (STEM) skills) for which the Nation has a critical need, without regard to age or sex; and (4) the feasibility and advisability of including in the military selective service process, as so modified, an eligibility or entitlement for the receipt of one or more Federal benefits (such as educational benefits, subsidized or secured student loans, grants or hiring preferences) specified by the Commission for purposes of the review.” Id.

The Commission's work is also guided by a series of principles issued by the President on April 3, 2017. See House Doc 115-27, available at https://www.gpo.gov/fdsys/pkg/CDOC-115hdoc27/pdf/CDOC-115hdoc27.pdf Those principles addressed questions raised by Congress that are similar to those included below under “Specific Topics to Address.”

The Commission is required to provide the President and Congress a final report containing its findings and recommendations regarding these matters no later than March 2020. In preparing the report, the Commission must engage the American public, hearing directly from them about these topics. In particular, Congress has directed the Commission to seek written comments from the general public and interested parties on matters of the Commission's review within seven months of its establishment date, which means April 19, 2018. This notice and request for comments is intended to meet that statutory requirement.

II. Other Engagement Opportunities

The Commission is also receiving formal input from a number of Federal agencies. The Commission's enabling statute requires the Secretary of Defense to issue a preliminary report on the current and future need for a centralized registration system under the Military Selective Service Act, and the Comptroller General to perform a review of the procedures used by the Defense Department in evaluating the selective service requirements. Additionally, several Federal agencies are required under the Commission's enabling statute to offer to the Commission recommendations for the reform of the military selective service process and military, national, and public service in connection with that process.

The Commission will hold a series of public meetings on these topics as it prepares its report for Congress and the President. Information about those meetings will be made available on the Commission's website, http://www.inspire2serve.gov.

III. Specific Topics to Address

The Commission would welcome comments on any of the specific topics for which Congress has requested Commission input. These are set forth above under “Background.”

In addition, the Commission would welcome comments on any of the following specific topics:

(1) Is a military draft or draft contingency still a necessary component of U.S. national security?

(2) Are modifications to the selective service system needed?

(3) How can the United States increase participation in military, national, and public service by individuals with skills critical to address the national security and other public service needs of the nation?

(4) What are the barriers to participation in military, national, or public service?

(5) Does service have inherent value, and, if so, what is it?

(6) Is a mandatory service requirement for all Americans necessary, valuable, and feasible?

(7) How does the United States increase the propensity for Americans, particularly young Americans, to serve?

Dated: February 12, 2018.
Kent Abernathy,
Executive Director.

[FR Doc. 2018-03261 Filed 2-15-18; 8:45 am]

BILLING CODE P